FEDERAL COMMUNICATIONS COMMISSION

Notice of Public Information Collection Being Reviewed by the Federal Communications Commission under Delegated Authority, Comments Requested

October 23, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on December 28, 2009. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send then to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0307.

Title: Parts 1, 22 and 90 of the Commission's Rules to Facilitate Development of Specialized Mobile Radio (SMR) Systems in the 800 MHz Frequency Band.

Form No.: N/A.

Type of Review: Extension of a currently approved collection.

Respondents: Business or other for-profit; not-for-profit institutions, and state, local or tribal government.

Number of Respondents: 272 respondents; 272 responses.

Estimated Time Per Response: 2.5 - 3.5 hours.

Frequency of Response: On occasion reporting requirement and third party disclosure requirement.

Obligation to Respond: Required to obtain or retain benefits.

Total Annual Burden: 173 hours.

Annual Cost Burden: $78,000.

Privacy Act Impact Assessment: N/A.

Nature and Extent of Confidentiality: There is no need for confidentiality.

Need and Uses: The Commission is submitting this information collection to the Office of Management and Budget (OMB) under delegated authority at the end of this 60 day comment period in order to obtain the full three year clearance from them. There is an adjustment reduction in the burden hours and annual costs. The burden hours have been reduced by 351 hours and the annual costs have been reduced by $226,000.

For this submission to the OMB, the Commission is requesting an extension with no changes to the reporting and/or third party disclosure requirements. The Commission has adjusted the number of respondents based on its experience with application receipts over the past three years. In addition, the Commission is no longer auctioning 800 MHz spectrum and thus, there will be no respondents for information collections associated with 800 MHz auctions. We also note that the three year time period for filing transfer disclosure information following the auction of 800 MHz licenses has passed for all three 800 MHz auctions (upper, lower and general). Therefore, there will be no respondents for information collections associated with transfer disclosures during the next collection period.

The information will be used by the Commission to update the Commission's licensing database and thereby facilitate the successful coexistence of Economic Area (EA) licensees and incumbents in the 800 MHz SMR band.

Federal Communications Commission.
Marlene H. Dortch,
Secretary.

[FR Doc. E9-26053 Filed 10-28-09; 8:45 am]

BILLING CODE 6712-01-S